DEPARTMENT OF TRANSPORTATION

Federal Railroad Administration

Tier 1 Environmental Impact Statement for the Oregon Portion of the Pacific Northwest Rail Corridor (Portland to Eugene)

AGENCY: Federal Railroad Administration (FRA), U.S. Department of Transportation (DOT).

ACTION: Notice of Intent to Prepare an Environmental Impact Statement.

SUMMARY: FRA is issuing this notice to advise the public that FRA and the Oregon Department of Transportation (ODOT) will jointly prepare a Tier 1 Environmental Impact Statement (EIS) in compliance with the National Environmental Policy Act of 1969 (NEPA) to study potential infrastructure investments along the Oregon portion of the Pacific Northwest Rail Corridor (PNWRC). The objective of the Tier 1 EIS is to evaluate a reasonable range of alternatives and select a rail corridor as well as making decisions regarding the level of intercity passenger rail service provided in the corridor, including variations in train frequency, trip time, and on-time performance. Alternatives under consideration will include taking no action (No-Build Alternative), as well as multiple build alternatives between Eugene-Springfield and the Columbia River in Portland. The build alternatives may include infrastructure improvements to the existing rail corridor, the development of a new rail corridor, or a combination of both. FRA is also issuing this notice to solicit public and agency input in the development of the scope of the EIS and to advise the public that outreach activities conducted by FRA and ODOT will be considered in the preparation of the EIS.

DATES: Written comments on the scope of the Tier 1 EIS for the Oregon Passenger Rail Project should be provided to ODOT by October 31, 2012. Public scoping meetings are scheduled from September 6, 2012 through September 19, 2012 at the times and locations identified in the Addresses section below.

ADDRESSES: Written comments on the scope of this study should be sent to Michael Holthoff, Environmental Project Manager, Major Projects Branch, Oregon Department of Transportation, 3210 Del Webb Avenue NE., Suite 110, Salem, OR 97301, or via email to OregonPassengerRail@odot.state.or.us. Comments may also be provided orally or in writing at the public scoping meetings scheduled at the following locations:

• Salem at ODOT “T” Building, Gail Achterman Conference Room, 355 Capitol Street NE., Salem, OR 97301 on September 6, 2012 from 5 p.m. through 7 p.m.

• Oregon City at Clackamas Community College—Gregory Forum Room A, 19600 Molalla Avenue, Oregon City, OR 97045 on September 11, 2012 from 5 p.m. through 7 p.m.

• Albany at Albany Public Library, 2450 14th Avenue SE., Albany, OR 97322 on September 12, 2012 from 5 p.m. through 7 p.m.

• Lake Oswego at Phoenix Inn, 14905 SW. Bangy Road, Lake Oswego, OR 97035 on September 13, 2012 from 5 p.m. through 7 p.m.

• Portland at Metro Council Chambers, 600 NE. Grand Avenue, Portland, OR 97232 on September 18, 2012 from 5 p.m. through 7 p.m.

• Eugene at Atrium Building Lobby, 99 W. 10th Avenue, Eugene, Oregon 97401 on September 19, 2012 from 5 p.m. through 7 p.m.

FOR FURTHER INFORMATION CONTACT: Jim Cox, Assistant Manager, Major Projects Branch, Oregon Department of Transportation, 3210 Del Webb Avenue NE., Suite 110, Salem, OR 97301, (telephone: (503) 986-6612); or Ms. Colleen Vaughn, Office of Railroad Policy and Development, Federal Railroad Administration (FRA), 1200 New Jersey Avenue SE., MS-20/W38- 221, Washington, DC 20590, (telephone: (202) 493-6096).

SUPPLEMENTARY INFORMATION: The federally designated PNWRC has been the subject of high-speed passenger rail planning and implementation strategies for more than 30 years. The 466-mile corridor serves the most densely populated regions of British Columbia (B.C.), Washington, and Oregon, linking Vancouver, B.C., Seattle, WA, and Portland and Eugene, OR, with growing intermediate communities, including the capital cities of Olympia, WA and Salem, OR. Oregon and Washington have planned, studied, and coordinated State-sponsored passenger service on the PNWRC since 1994.

Project Background: Oregon initiated a daily passenger rail round trip between Portland and Eugene in 1994. Since that time, Oregon has invested over $77 million in capital improvements including railroad infrastructure, stations, and rolling stock. A second State-sponsored daily round trip was added in 2000, resulting in ridership growth of 139% between 2000 and 2008.

Current intercity passenger rail service in Oregon includes two Amtrak Cascades train roundtrips per day. Additionally, Amtrak sponsors one daily roundtrip of the Coast Starlight between Los Angeles and Seattle and one daily roundtrip of the Empire Builder between Portland and Chicago. The Cascades station stops include Eugene, Albany, Salem, Oregon City and Portland and continue north to Vancouver, BC. The Coast Starlight stops in Klamath Falls, Chemult, Eugene, Albany, Salem and Portland. The only stop for the Empire Builder in Oregon is in Portland.

Over the next 25 years, the population of the Willamette Valley is expected to grow by approximately 35% with the population anticipated to reach 3.6 million by the year 2035. During the same period, freight volume in the state is expected to grow by approximately 60%. These increases will result in transportation demand that exceeds the available freight and passenger rail capacity in the Willamette Valley. A comprehensive approach to identifying the appropriate rail infrastructure is needed to provide additional passenger and freight rail capacity and to attain the principal service objectives of more reliable passenger trains, more frequent trains, and shortened travel times between Portland and Eugene (a distance of approximately 125 miles).

Environmental Review Process: FRA and ODOT will use a tiered process, as provided for in 40 CFR 1508.28, in the completion of the environmental review of the Project. “Tiering” is a staged environmental review process applied to environmental reviews for complex projects. The Tier 1 EIS will address broad corridor-level issues and alternatives. Subsequent phases or tiers will analyze, at a greater level of detail, narrower site-specific proposals based on the decisions made in Tier 1. The Tier 1 EIS and any subsequent environmental documents will be developed in accordance with Council on Environmental Quality (CEQ) regulations (40 CFR part 1500 et seq.) implementing NEPA, and FRA's Procedures for Considering Environmental Impacts (64 FR 28545; May 26, 1999).

Tier 1: The Tier 1 assessment will result in an EIS with the appropriate level of detail for corridor-level decisions and will address broad overall issues of concern, including but not limited to:

• Confirm the purpose and need for the proposed action.

• Confirm the study area appropriate to assess reasonable alternatives.

• Identify a comprehensive set of goals and objectives for the corridor in conjunction with Project stakeholders. These goals and objectives will be crafted to allow comprehensive evaluation of all aspects of the Project necessary to achieve the goals, including train operations, vehicles, and infrastructure.

• Identify the range of reasonable alternatives to be considered, consistent with the current and planned use of the corridor and the existing services within and adjacent to the study area, as well as considering a no action/no build alternative.

• Develop alternative evaluation criteria to identify alternatives that meet the purpose and need of the proposed action and those that do not.

• Identify the general alignment(s) of the reasonable build alternatives.

• Identify general right-of-way requirements for the reasonable build alternatives.

• Identify, at a corridor planning level, the infrastructure and equipment investment requirements for the reasonable build alternatives.

• Include the consideration of the No-Build Alternative which will be studied as the baseline for comparison with the build alternatives. The No-Build Alternative represents other transportation modes such as auto, air travel, intercity bus, and existing rail and the physical characteristics and capacities as they exist at the time of the Tier 1 EIS, with planned and funded improvements that will be in place at the time the Project becomes operational.

• Evaluate and describe, at a corridor planning level, the potential environmental consequences (benefits and impacts to the built and natural environment) associated with the reasonable alternative alignments and proposed changes in passenger rail train frequency, speed, and on-time performance.

• Establish the timing and sequencing of independent actions to maintain a state of good repair and to implement the proposed action.

• Identify a preferred alternative for corridor route alignment.

• Address subsequent component actions for Tier 2 NEPA documentation as described below.

Tier 2: The second tier assessment(s) will address component projects to be implemented within the general corridor identified in the Tier 1 EIS, and will incorporate by reference the data and evaluations included in the Tier 1 EIS. Subsequent evaluations will concentrate on the issues specific to the component of the selected alternative identified in the Tier 1 EIS, identify the Project alternatives that meet the purpose and need for each component project, and analyze the specific environmental consequences and measures necessary to mitigate environmental impacts at a site-specific level of detail.

Scoping and Public Involvement: FRA encourages broad participation in the EIS process during scoping and subsequent review of the resulting environmental documents. Comments and suggestions are invited from all interested agencies and the public at large to ensure the full range of issues related to the proposed action and all reasonable alternatives are addressed and all significant issues are identified. In particular, FRA is interested in determining whether there are areas of environmental concern where there might be the potential for significant impacts identifiable at a corridor level. Letters describing the proposed Project and soliciting comments were sent to appropriate Federal, State, and local agencies, and appropriate railroads. Public agencies with jurisdiction are requested to advise the FRA and ODOT of the applicable permit and environmental review requirements of each agency, and the scope and content of the environmental information that is germane to the agency's statutory responsibilities in connection with the proposed improvements.

An iterative public involvement/information program will support the process. The program will involve advisory group meetings, newsletters, a Project Web site, public open houses, stakeholder group meetings, and other methods to solicit and incorporate public input throughout the Tier 1 EIS process. To ensure that the full range of issues relating to the proposed action is addressed, comments and suggestions are invited from all interested parties. Comments and questions concerning the proposed action should be directed to ODOT or to the FRA at the addresses provided above. Additional information can be obtained by visiting the Project Web site at www.oregonpassengerrail.org or sending an email to OregonPassengerRail@odot.state.or.us.

The buildings used for the scoping meetings are accessible to persons with disabilities. Any individual who requires special assistance, such as a sign language interpreter, to participate in the meetings should contact Jyll Smith at Oregon Department of Transportation, telephone (503) 986-3985, five days prior to the meeting.

Issued in Washington, DC on August 13, 2012.
Corey Hill,
Director, Rail Project Development and Delivery.

[FR Doc. 2012-20227 Filed 8-16-12; 8:45 am]

BILLING CODE 4910-06-P